DEPARTMENT OF COMMERCE

[Docket No. 031203305-3305-01]

Privacy Act New System of Records

AGENCY: Department of Commerce.

ACTION: Notice of a New Privacy Act System of Records, COMMERCE/ITA-7, “Export.gov Community Registration”.

SUMMARY: This notice announces the Department's proposal for a new system of records under the Privacy Act. The system is entitled “Export.gov Community Registration”. The International Trade Administration is creating a new system of records that would enable visitors to Export.gov to register for the site in order to access specific types of market research and counseling services, and to have this basic information automatically populate web forms and registrations across the Trade Promotion Coordination Committee web domains that comprise or directly link to Export.gov. The registration database (system of records) would be accessible by other partner agencies and would act as a common, multi-agency registration database. The registrants would have the ability to opt-in to receive e-mailed updates of upcoming trade leads, trade events, new market reports, foreign standards notifications, and/or whether they wanted to be contacted for exporter assistance. This system of records is designed to: (1) reduce the amount of time required for exporters to fill out numerous online forms and export documentation; and (2) enable exporters to opt to receive information of interest to better utilize the products and services available through the federal government.

DATES: Comment Date: To be considered, written comments must be submitted on or before January 16, 2004.

Effective Date: Unless comments are received, the new system of records will become effective as proposed on the date of publication of a subsequent notice in the Federal Register.

ADDRESSES: Comments may be mailed to Gordon Keller, U.S. Department of Commerce, International Trade Administration, Room 1850, 1401 Constitution Avenue, NW., Washington, DC 20230.

FOR FURTHER INFORMATION CONTACT: Gordon Keller at 202-482-3801.

SUPPLEMENTARY INFORMATION: Information collected in this system of records is basic, non-proprietary business and personal contact information. No private or proprietary data will be collected and/or stored by this system.

COMMERCE/ITA-7

SYSTEM NAME:

Export.gov Community Registration.

SYSTEM LOCATION:

System will be housed and hosted in the International Trade Administration, Room 1842 1401 Constitution Avenue, NW., Washington, DC 20230.

CATEGORIES OF INDIVIDUALS COVERED BY THE SYSTEM:

U.S. exporting companies and/or individuals involved in an ongoing exporting concern, U.S. private citizens, students and/or researchers.

CATEGORIES OF RECORDS IN THE SYSTEM:

Company name, contact person's name, contact person's title, company address, company telephone number, company Web address, U.S. or non-U.S. organization, e-mail address, login name and password, fax number, company type, number of employees, product/service description, estimated annual sales, industry, the country(ies) of interest, yes/no option to be contacted with more information, and similar identifying information.

AUTHORITY FOR MAINTENANCE OF THE SYSTEM:

15 U.S.C. 1512.

ROUTINE USES OF RECORDS MAINTAINED IN THE SYSTEM, INCLUDING CATEGORIES OF USERS AND THE PURPOSES OF SUCH USES:

(1) A record from this system of records may be disclosed to the Trade Promotion Coordination Committee (TPCC) partner agencies trade professionals.

(2) In the event that a system of records maintained by the Department to carry out its functions indicates a violation or potential violation of law or contract, whether civil, criminal or regulatory in nature, and whether arising by general statute or particular program statute or contract, or rule, regulation, or order issued pursuant thereto, or the necessity to protect an interest of the Department, the relevant records in the system of records may be referred to the appropriate agency, whether Federal, State, local or foreign, charged with the responsibility of investigating or prosecuting such violation or charged with enforcing or implementing the statute or contract, or rule, regulation or order issued pursuant thereto, or protecting the interest of the Department.

(3) A record from this system of records may be disclosed in the course of presenting evidence to a court, magistrate or administrative tribunal, including disclosures to opposing counsel in the course of settlement negotiations.

(4) A record in this system of records may be disclosed to a Member of Congress submitting a request involving an individual when the individual has requested assistance from the Member with respect to the subject matter of the record.

(5) A record in this system of records may be disclosed to the Department of Justice in connection with determining whether disclosure thereof is required by the Freedom of Information Act (5 U.S.C. 552).

(6) A record in this system of records may be disclosed to a contractor of the Department having need for the information in the performance of the contract, but not operating a system of records within the meaning of 5 U.S.C. 552a(m).

(7) A record from this system of records may be disclosed to the Administrator, General Services, or his designee, during an inspection of records conducted by GSA as part of that agency's responsibility to recommend improvements in records management practices and programs, under authority of 44 U.S.C. 2904 and 2906. Such disclosure shall be made in accordance with the GSA regulations governing inspection of records for this purpose, and any other relevant (i.e. GSA or Commerce) directive. Such disclosure shall not be used to make determinations about individuals.

POLICIES AND PRACTICES FOR STORING, RETRIEVING, ACCESSING, RETAINING, AND DISPOSING OF RECORDS IN THE SYSTEM:

STORAGE:

Records are maintained in computer processible storage media, such as computer hard drives, magnetic disc, tape, in file folders, and on paper lists and forms.

RETRIEVABILITY:

Records are submitted to the system by registrants to Export.gov. Each registrant chooses a unique username and password that enables the registrant to retrieve and edit their record only. Registrant records are transferred (or retrieved) from the central database by participating Federal Trade Promotion Coordinating Committee Agencies (TPCC) via Simple Object Access Protocol (SOAP). The security of the data transmissions between agencies are protected through the use of an encryption key shared between the International Trade Administration and its partner agency(ies).

SAFEGUARDS:

Records and servers are located in a locked, climate controlled server room within the Department of Commerce. Access to this room and server is limited to those whose official duties require access.

RETENTION AND DISPOSAL:

All records shall be retained and disposed of in accordance with National Archives and Records Administration regulations (36 CFR Subchapter B—Records Retention); Departmental directives and comprehensive records schedules.

SYSTEM MANAGER(S) AND ADDRESS:

Same as listed under System Location.

NOTIFICATION PROCEDURE:

Information may be obtained from: Chief Information Office, International Trade Administration, U.S. Department of Commerce, 1401 Constitution Avenue, NW., Room 4800, Washington, DC 20230.

RECORD ACCESS PROCEDURES:

Requests from individuals should be addressed to the same address as stated in the Notification section above.

CONTESTING RECORD PROCEDURES:

The Department's rules for access, for contesting contents, and appealing initial determinations by the individual concerned appear in 15 CFR part 4b. Use address contained in the notification section.

RECORD SOURCE CATEGORIES:

Information in this system is provided by the individual on whom the record is maintained.

Dated: December 11, 2003.
Brenda Dolan,
Department of Commerce, , Freedom of Information/Privacy Act Officer.

[FR Doc. 03-31095 Filed 12-16-03; 8:45 am]

BILLING CODE 3510-25-P